DEPARTMENT OF TRANSPORTATION

Federal Aviation Administration

14 CFR Part 71

[Docket No. FAA-2016-6271; Airspace Docket No. 16-AGL-15]

Establishment of Class E Airspace; Iron Mountain, MI

AGENCY: Federal Aviation Administration (FAA), DOT.

ACTION: Final rule.

SUMMARY: This action establishes additional Class E en route domestic airspace around the Iron Mountain VHF omnidirectional range/distance measuring equipment, MI, to facilitate vectoring of Instrument Flight Rules (IFR) aircraft under control of Minneapolis Air Route Traffic Control Center (ARTCC). This action enhances the safety and efficiency of IFR operations within the National Airspace System. This action also removes the Federal airways exclusionary language from the regulatory text. Additionally, the correct navigation aid is noted in Class E 700 foot airspace.

DATES: Effective 0901 UTC, April 27, 2017. The Director of the Federal Register approves this incorporation by reference action under title 1, Code of Federal Regulations, part 51, subject to the annual revision of FAA Order 7400.11A and publication of conforming amendments.

ADDRESSES: FAA Order 7400.11A, Airspace Designations and Reporting Points, and subsequent amendments can be viewed on line at http://www.faa.gov/air_traffic/publications/. For further information, you can contact the Airspace Policy Group, Federal Aviation Administration, 800 Independence Avenue SW., Washington, DC 20591; telephone: 202-267-8783. The Order is also available for inspection at the National Archives and Records Administration (NARA). For information on the availability of this material at NARA, call 202-741-6030, or go to http://www.archives.gov/federal_register/code_of_federal-regulations/ibr_locations.html.

FAA Order 7400.11, Airspace Designations and Reporting Points, is published yearly and effective on September 15.

FOR FURTHER INFORMATION CONTACT: Raul Garza, Jr., Central Service Center, Operations Support Group, Federal Aviation Administration, Southwest Region, 10101 Hillwood Parkway, Fort Worth, TX 76177; telephone: (817) 222-5874.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part, A, Subpart I, Section 40103. Under that section, the FAA is charged with prescribing regulations to assign the use of airspace necessary to ensure the safety of aircraft and the efficient use of airspace. This regulation is within the scope of that authority as it establishes controlled airspace in the Iron Mountain, MI, area.

History

On July 29, 2016, the FAA published in the Federal Register a notice of proposed rulemaking (NPRM) to establish additional Class E en route airspace in the Iron Mountain, MI area. (81 FR 49902) Docket No. FAA-2016-6271. Interested parties were invited to participate in this rulemaking effort by submitting written comments on the proposal to the FAA. No comments were received.

Availability and Summary of Documents for Incorporation by Reference

This document amends FAA Order 7400.11A, airspace Designations and Reporting Points, dated August 3, 2016, and effective September 15, 2016. FAA Order 7400.11A is publicly available as listed in the ADDRESSES section of this document. FAA Order 7400.11A lists Class A, B, C, D, and E airspace areas, air traffic service routes, and reporting points.

The Rule

This amendment to Title 14, Code of Federal Regulations (14 CFR) part 71 establishes additional Class E en route airspace extending upward from 1,200 feet above the surface at the Iron Mountain VOR/DME, Iron Mountain, MI, and adds additional controlled airspace to the southern and northern boundaries of the Iron Mountain en route airspace area, and removes exclusionary information from the regulatory text. This action provides controlled airspace enabling Minneapolis ARTCC greater latitude to use radar vectors and altitude changes within the entire area north and northwest of the Iron Mountain, MI, VOR/DME and removes unnecessary exclusionary language for clarity.

This action also amends Class E airspace extending upward from 700 feet above the surface at Iron Mountain/Kingford, Ford Airport, MI, to reflect the name change of the navigation aid from Iron Mountain VORTAC to Iron Mountain VOR/DME.

Class E airspace designations are published in Sections 6005 and 6006, respectively, of FAA Order 7400.11A, dated August 3, 2016, and effective September 15, 2016, which is incorporated by reference in 14 CFR 71.1. The Class E airspace designations listed in this document will be published subsequently in the Order.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exists that warrant preparation of an environmental assessment.

Lists of Subjects in 14 CFR Part 71

Airspace, Incorporation by reference, Navigation (Air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for Part 71 continues to read as follows:

Authority: 49 U.S.C. 106(f), 106(g); 40103, 40113, 40120, E.O. 10854, 24 FR 9565, 3 CFR, 1959-1963 Comp., p. 389.

§ 71.1 [Amended]

2. The incorporation by reference in 14 CFR 71.1 of FAA Order 7400.11A, Airspace Designations and Reporting Points, dated August 3, 2016, effective September 15, 2016, is amended as follows:

Paragraph 6006 En Route Domestic Airspace Areas.

* * * * *

AGL MI E6 Iron Mountain, MI [Amended]

Iron Mountain VOR/DME, MI

(Lat. 45°48′58″ N., long. 088°06′44″ W.)

Thunder Bay Airport, ON, Canada

(Lat. 48°22′19″ N., long. 089°19′26″ W.)

That airspace extending upward from 1,200 feet above the surface within an area bounded by lat. 47°05′00″ N., long. 086°40′39″ W.; to lat. 47°05′00″ N., long. 088°27′44″ W.; to the Iron Mountain VOR/DME; to lat. 46°16′21″ N., long. 089°47′13″ W.; to lat. 46°52′34″ N., long. 090°13′09″ W. on the eastern boundary of the Wisconsin E5 airspace area; thence northeast along the boundary of the Wisconsin and Minnesota E5 airspace areas to the intersection of the 35 NM radius of the Thunder Bay Airport; thence counterclockwise along the 35 NM radius of the Thunder Bay Airport to the intersection of the southern boundary of the Upper Peninsula E6 airspace area; thence southeast along the boundary of the Upper Peninsula E6 airspace area to the point of beginning.

Paragraph 6005 Class E Airspace Areas Extending Upward From 700 feet or More Above the Surface of the Earth.

* * * * *

AGL MI E5 Iron Mountain, MI [Amended]

Iron Mountain/Kingsford, Ford Airport, MI

(Lat. 45°49′06″ N., long. 88°06′52″ W.)

Iron Mountain VOR/DME

(Lat. 45°48′58″ N., long. 88°06′44″ W.)

That airspace extending upward from 700 feet above the surface within an 8.7-mile radius of Iron Mountain VOR/DME, and within 5.2 miles west and 8.3 miles east of the Iron Mountain ILS localizer south course extending from the 8.7-mile radius to 21 miles south of the Iron Mountain/Kingsford, Ford Airport, and within 4.4 miles each side of the Iron Mountain ILS localizer north course extending from the 8.7-mile radius to 16 miles north of the airport.

Issued in Fort Worth, TX, on February 2, 2016.
Christopher L. Southerland,
Acting Manager, Operations Support Group, ATO Central Service Center.

[FR Doc. 2017-03508 Filed 2-24-17; 8:45 am]

BILLING CODE 4910-13-P